DEPARTMENT OF EDUCATION

Submission for OMB Review; Comment Request

AGENCY: Department of Education.

ACTION: Correction Notice.

SUMMARY: On July 2, 2007, the Department of Education published a comment period notice in the Federal Register (Page 35982, Column 2) for the information collection, “Student Achievement and Institutional Performance Pilot Program.” The date for submitting comments stated in the Preamble was incorrect. As stated in the Abstract, interested persons are invited to submit comments by July 19, 2007. The IC Clearance Official, Regulatory Information Management Services, Office of Management, hereby issues a correction notice as required by the Paperwork Reduction Act of 1995.

Dated: July 10, 2007.
Angela C. Arrington,
IC Clearance Official, Regulatory Information Management Services,Office of Management.

[FR Doc. E7-13661 Filed 7-12-07; 8:45 am]

BILLING CODE 4000-01-P